DEPARTMENT OF JUSTICE

Notice of Lodging of Consent Decree Pursuant to the Comprehensive Environmental Response, Compensation, and Liability Act

In accordance with Department policy, 28 C.F.R. § 50.7, notice is hereby given that a consent decree in United States v. RAM Industries, Inc., Civil Action No. 00-3826 (E.D. Pa.) was lodged on July 28, 2000, with the United States District Court for the Eastern District of Pennsylvania. The consent decree resolves the claims of the United States against RAM Industries, Inc. under Section 107(a) of the Comprehensive Environmental Response, Compensation, and Liability Act, as amended (“CERCLA”), 42 U.S.C. § 9607(a), for reimbursement of response costs incurred by the U.S. Environmental Protection Agency (“EPA”) in connection with the Eighth Street Drum Site located in Chester, Delaware County, Pennsylvania. Under the terms of the consent decree, EPA would receive $13,500, which represents approximately 33% of the amount expended by the Site.

The Department of Justice will receive, for a period of thirty (30) days from the date of this publication, comments relating to the proposed consent decree. Comments should be addressed to the Assistant Attorney General for the Environment and Natural Resources Division, U.S. Department of Justice, Washington, D.C., 20530, and should refer to United States v. RAM Industries, Inc., DOJ #90-11-3-06920.

The proposed consent decree may be examined at the offices of the United States Attorney, 615 Chestnut Street, Suite 1250, Philadelphia, PA 19106-4476. A copy of the consent decree may also be obtained by mail from the U.S. Department of Justice Consent Decree Library, P.O. Box 7611, Washington, D.C. 20044. In requesting a copy, please refer to the referenced case and enclose a check in the amount of $6.25 (25 cents per page reproduction cost), payable to the Consent Decree Library.

Joel M. Gross,
Chief, Environmental Enforcement Section, Environment & Natural Resources Division.

[FR Doc. 00-20740 Filed 8-15-00; 8:45 am]

BILLING CODE 4410-15-M